TENNESSEE VALLEY AUTHORITY

Meeting of the Regional Energy Resource Council

AGENCY: Tennessee Valley Authority (TVA).

ACTION: Notice of meeting.

SUMMARY: The TVA Regional Energy Resource Council (RERC) will hold a meeting on April 18 and 19, 2023, regarding regional energy related issues in the Tennessee Valley.

DATES: The meeting will be held at the Drury Inn in Knoxville, Tennessee, on Tuesday, April 18, 2023, from 8 a.m. to 1:30 p.m. E.T. and Wednesday, April 19, 2023, from 7:45 a.m. to 1 p.m. ET. RERC council members are invited to attend the meeting in person. The public is invited to view the meeting virtually or to attend in-person. A 1-hour public listening session will be held April 19, 2023, at 10:30 a.m. A link and instructions to view the meeting will be posted on TVA's RERC website at www.tva.gov/rerc.

ADDRESSES: The public is invited to view the meeting virtually or attend in person. The in-person meeting will be held at the Drury Inn, 209 Advantage Pl., Knoxville, TN 37920. Public members who wish to speak virtually must preregister by 5 p.m. E.T. on Monday, April 17, 2023, by emailing bhaliti@tva.gov. Anyone needing special accommodations should let the contact below know at least one week in advance.

FOR FURTHER INFORMATION CONTACT: Bekim Haliti, bhaliti@tva.gov, 931-349-1894.

SUPPLEMENTARY INFORMATION:

The RERC was established to advise TVA on its energy resource activities and the priorities among competing objectives and values. Notice of this meeting is given under the Federal Advisory Committee Act (FACA), 5 U.S.C. App.2.

The meeting agenda includes the following:

Day 1—April 18

1. Welcome and Introductions

2. RERC and TVA Meeting Update

3. TVA New Nuclear Program

4. Review of Advice Questions

Day 2—April 19

5. Welcome and Review of Day 1

6. Nuclear Engineering Institute Presentation

7. PURPA “Shall Consider” Standards—Demand Response and Electric Vehicles

8. Public Listening Session

9. RERC Advice Statement

The RERC will hear views of citizens by providing a 1-hour public listening session starting April 19 at 10:30 a.m. ET. Persons wishing to speak must register at bhaliti@tva.gov by 5:00 p.m. EDT, on Monday, April 17, 2023, and will be called on during the public listening session for up to five minutes to share their views. Written comments are also invited and may be emailed to bhaliti@tva.gov.

Dated: March 31, 2023.
Melanie Farrell,
Vice President, External Stakeholders and Regulatory Oversight, Tennessee Valley Authority.

[FR Doc. 2023-07497 Filed 4-10-23; 8:45 am]

BILLING CODE 8120-08-P